DEPARTMENT OF ENERGY

Federal Energy Regulatory Commission

[Project No. 11856-000]

City of Lockport, New York; Notice Rejecting Application for Preliminary Permit

February 20, 2001.

On August 8, 2000, the City of Lockport, New York (Lockport), filed an application for a preliminary permit, pursuant to Section 5 of the Federal Power Act (FPA), 16 U.S.C. 798, for the Independence Transmission Line Project, located in Lockport, Niagara County, New York. Following notice of the application, timely motions to intervene were filed by Niagara Mohawk Power Corporation (Niagara Mohawk) and Erie Boulevard Hydropower, L.P. (Erie).¹ Lockport seeks a preliminary permit for a project comprising solely the existing Hydraulic Race-Lockport #751 transmission line, a 12-kilovolt line approximately 8,590 feet in length, owned by Niagara Mohawk. The line connects the exempted Project No. 2424, owned by Erie, to Niagara Mohawk's Lockport Substation.

¹ As the motions to intervene were timely and not opposed, they are automatically granted, pursuant to 18 CFR 385.214(c) (2000).

The Commission does not have jurisdiction over transmission lines connected to exempted projects.² It has jurisdiction only over primary transmission lines that transmit power from a licensed water power project or other hydroelectric project authorized by Congress.³ Since the Commission cannot license the line, it does not entertain applications for a preliminary permit therefor. Accordingly, the application for a preliminary permit is rejected.

² See Order No. 76, FERC Stats. & Regs., Reg. Preambles ¶ 30,146 (1980).

³ See 18 CFR 4.70 (2000).

This notice constitutes final agency action. Requests for rehearing by the Commission of this rejection may be filed within 30 days of the date of issuance of this notice, pursuant to 18 CFR 385.713.

David P. Boergers,
Secretary.

[FR Doc. 01-4585 Filed 2-23-01; 8:45 am]

BILLING CODE 6717-01-M